DEPARTMENT OF TRANSPORTATION

Federal Aviation Administration

14 CFR Part 39

[Docket No. FAA-2015-4070; Directorate Identifier 2015-NE-31-AD; Amendment 39-18408; AD 2016-04-14]

RIN 2120-AA64

Airworthiness Directives; Turbomeca S.A. Turboshaft Engines

AGENCY: Federal Aviation Administration (FAA), DOT.

ACTION: Final rule.

SUMMARY: We are adopting a new airworthiness directive (AD) for certain Turbomeca S.A. Arriel 1E2 turboshaft engines. This AD requires removing the tachometer box on affected engines. This AD was prompted by reports of uncommanded in-flight shutdowns (IFSDs). We are issuing this AD to prevent failure of the tachometer box, which could lead to failure of the engine, IFSD, and loss of control of the helicopter.

DATES: This AD becomes effective April 1, 2016.

ADDRESSES: For service information identified in this AD, contact Turbomeca S.A., 40220 Tarnos, France; phone: 33 (0)5 59 74 40 00; fax: 33 (0)5 59 74 45 15. You may view this service information at the FAA, Engine & Propeller Directorate, 1200 District Avenue, Burlington, MA. For information on the availability of this material at the FAA, call 781-238-7125. It is also available on the Internet at http://www.regulations.gov by searching for and locating Docket No. FAA-2015-4070.

Examining the AD Docket

You may examine the AD docket on the Internet at http://www.regulations.gov by searching for and locating Docket No. FAA-2015-4070; or in person at the Docket Management Facility between 9 a.m. and 5 p.m., Monday through Friday, except Federal holidays. The AD docket contains this AD, the mandatory continuing airworthiness information (MCAI), the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Philip Haberlen, Aerospace Engineer, Engine Certification Office, FAA, Engine & Propeller Directorate, 1200 District Avenue, Burlington, MA 01803; phone: 781-238-7770; fax: 781-238-7199; email: philip.haberlen@faa.gov.

SUPPLEMENTARY INFORMATION:

Discussion

We issued a notice of proposed rulemaking (NPRM) to amend 14 CFR part 39 by adding an AD that would apply to the specified products. The NPRM was published in the Federal Register on November 24, 2015 (80 FR 73147). The NPRM proposed to correct an unsafe condition for the specified products. The MCAI states:

There have been reports of Arriel 1E2 engines having experienced an uncommanded in-flight shut-down (IFSD) due to an untimely activation of the tachometer box shut-off system which was activated by the power turbine monitoring function of the tachometer box.

This condition, if not corrected, could potentially lead to further cases of IFSD, possibly resulting in a forced landing.

Comments

We gave the public the opportunity to participate in developing this AD. We received no comments on the NPRM (80 FR 73147, November 24, 2015).

Conclusion

We reviewed the available data and determined that air safety and the public interest require adopting this AD as proposed.

Related Service Information

Turbomeca S.A. has issued Mandatory Service Bulletin No. 292 77 0844, Version B, dated July 6, 2015. The service information describes procedures for removing pre-TU 369 tachometer boxes.

Costs of Compliance

We estimate that this AD affects 200 engines installed on helicopters of U.S. registry. We also estimate that it will take about 3 hours per engine to comply with this AD. The average labor rate is $85 per hour. Based on these figures, we estimate the cost of this AD on U.S. operators to be $51,000.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-04-14 Turbomeca S.A.: Amendment 39-18408; Docket No. FAA-2015-4070; Directorate Identifier 2015-NE-31-AD.

(a) Effective Date

This AD becomes effective April 1, 2016.

(b) Affected ADs

None.

(c) Applicability

(1) This AD applies to Turbomeca S.A. Arriel 1E2 turboshaft engines with tachometer boxes with the following part number (P/N) and serial number (S/N) combinations:

(i) P/N 9580116170—all S/Ns

(ii) P/N 9580116260—all S/Ns

(iii) P/N 9580116900—all S/Ns

(iv) P/N 9580117110—all S/Ns

(v) P/N 9580117550—all S/Ns 1499 and below with or without suffix letters and all S/Ns 1500 and above that do not contain the suffix letters EL.

(2) This AD applies only to Turbomeca S.A. Arriel 1E2 turboshaft engines with tachometer boxes identified in paragraph (c)(1) of this AD that also have installed electrical connectors labeled as P10106, P10098, and P10108; or P11F, P13F, and P15F.

(d) Reason

This AD was prompted by reports of uncommanded in-flight shutdowns (IFSDs). We are issuing this AD to prevent failure of the tachometer box, which could lead to failure of the engine, IFSD, and loss of control of the helicopter.

(e) Actions and Compliance

Comply with this AD within the compliance times specified, unless already done.

(1) Within 1,600 flight hours after the effective date of this AD, remove the affected tachometer box from the engine.

(2) Reserved.

(f) Credit for Previous Action

You may take credit for the action required by paragraph (e) of this AD if you performed the action before the effective date of this AD in accordance with Turbomeca S.A. Mandatory Service Bulletin 292 77 0844, Version A, dated March 4, 2015.

(g) Alternative Methods of Compliance (AMOCs)

The Manager, Engine Certification Office, FAA, may approve AMOCs for this AD. Use the procedures found in 14 CFR 39.19 to make your request. You may email your request to: ANE-AD-AMOC@faa.gov.

(h) Related Information

(1) For more information about this AD, contact Philip Haberlen, Aerospace Engineer, Engine Certification Office, FAA, Engine & Propeller Directorate, 1200 District Avenue, Burlington, MA 01803; phone: 781-238-7770; fax: 781-238-7199; email: philip.haberlen@faa.gov.

(2) Refer to MCAI European Aviation Safety Agency AD 2015-0175, dated August 24, 2015, which includes Mandatory Service Bulletin No. 292 77 0844, Version B, dated July 6, 2015, for related information. You may examine the MCAI in the AD docket on the Internet at http://www.regulations.gov by searching for and locating Docket No. FAA-2015-4070.

(3) Turbomeca S.A. Mandatory Service Bulletin No. 292 77 0844, Version B, dated July 6, 2015, which is not incorporated by reference in this AD, can be obtained from Turbomeca S.A., using the contact information in paragraph (h)(4) of this AD.

(4) For service information identified in this AD, contact Turbomeca S.A., 40220 Tarnos, France; phone: 33 (0)5 59 74 40 00; fax: 33 (0)5 59 74 45 15.

(5) You may view this service information at the FAA, Engine & Propeller Directorate, 1200 District Avenue, Burlington, MA. For information on the availability of this material at the FAA, call 781-238-7125.

(i) Material Incorporated by Reference

None.

Issued in Burlington, Massachusetts, on February 16, 2016.
Ann C. Mollica,
Acting Manager, Engine & Propeller Directorate, Aircraft Certification Service.

[FR Doc. 2016-04028 Filed 2-25-16; 8:45 am]

BILLING CODE 4910-13-P